DEPARTMENT OF ENERGY

10 CFR Part 430

[Docket No. EERE-2009-BT-TP-0016-0017]

RIN 1904-AB99

Energy Conservation Program: Clarification for Energy Conservation Standards and Test Procedures for Fluorescent Lamp Ballasts

AGENCY: Office of Energy Efficiency and Renewable Energy, Department of Energy.

ACTION: Notice of proposed rulemaking.

SUMMARY: The U.S. Department of Energy (DOE) proposes to clarify its energy conservation standards and test procedures for fluorescent lamp ballasts established under the Energy Policy and Conservation Act. DOE proposes to reorganize, reformat, correct, and clarify the scope of the energy conservation standards. In addition, DOE proposes to remove the outdated test procedure at Appendix Q and redesignate the current test procedure at Appendix Q1 as Appendix Q. DOE also proposes clarifications to supplement the test procedure setup at redesignated Appendix Q. Finally, DOE proposes to revise the laboratory accreditation language and provide clarification on the process for evaluating compliance with standards.

DATES: DOE will accept comments, data, and information regarding this notice of proposed rulemaking (NOPR) no later than March 9, 2015. See section V, “Public Participation,” for details.

ADDRESSES: Any comments submitted must identify the NOPR for Clarification for Energy Conservation Standards and Test Procedures for Fluorescent Lamp Ballasts, and provide docket number EE-2009-BT-TP-0016-0017 and/or regulatory information number (RIN) number 1904-AB99. Comments may be submitted using any of the following methods:

1. Federal eRulemaking Portal: www.regulations.gov. Follow the instructions for submitting comments.

2. Email: FLB-2009-TP-0016@ee.doe.gov. Include the docket number and/or RIN in the subject line of the message.

3. Mail: Ms. Brenda Edwards, U.S. Department of Energy, Building Technologies Program, Mailstop EE-2J, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

For detailed instructions on submitting comments and additional information on the rulemaking process, see section V of this document (Public Participation).

Docket: The docket, which includes Federal Register notices, comments, and other supporting documents/materials, is available for review at regulations.gov. All documents in the docket are listed in the regulations.gov index. However, some documents listed in the index, such as those containing information that is exempt from public disclosure, may not be publicly available.

A link to the docket Web page can be found at: http://www1.eere.energy.gov/buildings/appliance_standards/product.aspx/productid/62. This Web page will contain a link to the docket for this notice on the regulations.gov site. The regulations.gov Web page will contain simple instructions on how to access all documents, including public comments, in the docket. See section V for information on how to submit comments through regulations.gov.

For further information on how to submit a comment or review other public comments and the docket, contact Ms. Brenda Edwards at (202) 586-2945 or by email: Brenda.Edwards@ee.doe.gov.

FOR FURTHER INFORMATION CONTACT: Ms. Lucy deButts, U.S. Department of Energy, Office of Energy Efficiency and Renewable Energy, Building Technologies Program, EE-2J, 1000 Independence Avenue SW., Washington, DC 20585-0121. Telephone: (202) 287-1604. Email: fluorescent_lamp_ballasts@ee.doe.gov.

Ms. Sarah Butler, U.S. Department of Energy, Office of the General Counsel, GC-71, 1000 Independence Avenue SW., Washington, DC 20585-0121. Telephone: (202) 586-1777. Email: Sarah.Butler@hq.doe.gov.

SUPPLEMENTARY INFORMATION:

Table of Contents

I. Authority and Background

II. Summary of the Notice of Proposed Rulemaking

III. Discussion

A. Energy Conservation Standards

1. Changes to Organization

2. Changes to Definitions and Terminology

B. Test Procedure

1. Lamp Pairing for Testing

2. Testing at Full Output

3. Measurement Clarification

4. Changes to Definitions

5. Rounding Ballast Luminous Efficiency

6. Language Changes and Corrections to the Text

C. Compliance and Certification

1. Laboratory Accreditation

2. Evaluating Compliance With Standards

3. Compliance Date for This Proposed Rule

IV. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Review Under Section 32 of the Federal Energy Administration Act of 1974

V. Public Participation

A. Submission of Comments

B. Issues on Which DOE Seeks Comment

VI. Approval of the Office of the Secretary

I. Authority and Background

Title III, Part B ¹ of the Energy Policy and Conservation Act of 1975 (“EPCA” or, “the Act”), Pub. L. 94-163 (42 U.S.C. 6291-6309, as codified) sets forth a variety of provisions designed to improve energy efficiency and established the “Energy Conservation Program for Consumer Products Other Than Automobiles.” ² These include fluorescent lamp ballasts, the subject of today's notice. (42 U.S.C. 6292(a)(13))

¹ For editorial reasons, upon codification in the U.S. Code, Part B was redesignated as Part A.

² All references to EPCA in this document refer to the statute as amended through the American Energy Manufacturing Technical Corrections Act (AEMTCA), Pub. L. 112-210 (Dec. 18, 2012).

Under EPCA, the energy conservation program consists essentially of four parts: (1) Testing, (2) labeling, (3) Federal energy conservation standards, and (4) certification and enforcement procedures. The testing requirements consist of test procedures that manufacturers of covered products must use as the basis for (1) certifying to the Department of Energy (DOE) that their products comply with the applicable energy conservation standards adopted under EPCA, and (2) making representations about the efficiency of those products. Similarly, DOE must use these test procedures to determine whether the products comply with any relevant standards promulgated under EPCA.

DOE published test procedure final rules on April 24, 1991, October 22, 2009, and May 4, 2011 (hereafter the “May 2011 test procedure final rule”), establishing active mode test procedures, standby and off mode test procedures, and revised active mode test procedures respectively. 56 FR 18677, 74 FR 54445, and 76 FR 25211. The May 2011 test procedure final rule established Appendix Q1 to subpart B of 10 CFR part 430. DOE also published final rules establishing and amending energy conservation standards for fluorescent lamp ballasts on September 19, 2000, and November 14, 2011 (hereafter the “November 2011 standards final rule”), which completed the two energy conservation standard rulemakings required under 42 U.S.C. 6295(g)(7). 65 FR 56740 and 76 FR 70547. The November 2011 standards final rule established the regulations located at 10 CFR 430.32(m)(8)-(10). This rulemaking clarifies the contents of the energy conservation standards and test procedures promulgated by DOE.

II. Summary of the Notice of Proposed Rulemaking

In this notice of proposed rulemaking (NOPR), DOE discusses key aspects of the energy conservation standards and test procedures for fluorescent lamp ballasts and proposes to clarify the corresponding requirements and specifications in the CFR. DOE proposes modifications to the organization of 10 CFR 430.32(m) to clarify the applicability of the standards and exemptions. DOE also proposes to consolidate 10 CFR 430.32(m) by deleting standards that are no longer applicable. In addition, DOE proposes to clarify definitions relating to ballast luminous efficiency (BLE) standards.

DOE proposes to remove the outdated test procedure for ballast efficacy factor (BEF) at Appendix Q and redesignate the test procedure for BLE at Appendix Q1 as Appendix Q. In addition, DOE proposes to add testing clarifications to redesignated Appendix Q and proposes modifying redesignated Appendix Q to clarify the reference lamp pairings for testing. DOE also proposes clarifications to redesignated Appendix Q for test setup and measurement and provides rounding instructions for BLE. In addition, DOE proposes general changes to definitions, language, and corrections to the text.

Finally, DOE proposes to revise the laboratory accreditation language at 10 CFR 430.25. This NOPR also discusses the process for evaluating compliance with standards by providing example calculations for evaluating compliance with BLE standards.

Manufacturers would be required to comply with the clarifications included in this rulemaking within 180 days after the publication of the final rule.

III. Discussion

A. Energy Conservation Standards

In the second rulemaking cycle required by 42 U.S.C. 6295(g)(7), DOE amended existing energy conservation standards and adopted standards for additional ballasts in a final rule published on November 14, 2011 (hereafter “2011 Ballast Rule”). The new and amended standards are based on BLE and apply to all products listed in Table III.1. DOE has required compliance with these BLE standards since November 14, 2014.

Table III.1—Ballast Luminous Efficiency Standards Implemented by the 2011 Ballast Rule
Fluorescent lamp ballasts shall have a ballast luminous efficiency no less than A/(1+B*total lamp arc power ‸−C) where A, B, and C are as follows:: Product class | Fluorescent lamp ballasts shall have a ballast luminous efficiency no less than A/(1+B*total lamp arc power ‸−C) where A, B, and C are as follows:: A | Fluorescent lamp ballasts shall have a ballast luminous efficiency no less than A/(1+B*total lamp arc power ‸−C) where A, B, and C are as follows:: B | Fluorescent lamp ballasts shall have a ballast luminous efficiency no less than A/(1+B*total lamp arc power ‸−C) where A, B, and C are as follows:: C
Instant start and rapid start ballasts (not classified as residential) that are designed to operate | 0.993 | 0.27 | 0.25
4-foot medium bipin lamps
2-foot U-shaped lamps
8-foot slimline lamps
Programmed start ballasts (not classified as residential) that are designed to operate | 0.993 | 0.51 | 0.37
4-foot medium bipin lamps
2-foot U-shaped lamps
4-foot miniature bipin standard output lamps
4-foot miniature bipin high output lamps
Instant start and rapid start ballasts (not classified as sign ballasts) that are designed to operate | 0.993 | 0.38 | 0.25
8-foot high output lamps
Programmed start ballasts (not classified as sign ballasts) that are designed to operate | 0.973 | 0.70 | 0.37
8-foot high output lamps
Sign ballasts that operate | 0.993 | 0.47 | 0.25
8-foot high output lamps
Instant start and rapid start residential ballasts that operate | 0.993 | 0.41 | 0.25
4-foot medium bipin lamps
2-foot U-shaped lamps
8-foot slimline lamps
Programmed start residential ballasts that are designed to operate | 0.973 | 0.71 | 0.37
4-foot medium bipin lamps
2-foot U-shaped lamps

Several ballasts are exempt from BLE and power factor standards established by the 2011 Ballast Rule. See 10 CFR 430.32(m)(9). These exemptions consist of:

(1) Low frequency T8 ballasts that are designed, labeled, and marketed for use only in electromagnetic-interference-sensitive-environments and shipped in packages of 10 or fewer;

(2) Programmed start ballasts that operate 4-foot medium bipin (MBP) T8 lamps and deliver on average less than 140 milliamperes to each lamp; and

(3) Dimming ballasts except for those specified in 10 CFR 430.32(m)(10).

See 10 CFR 430.32(m)(9)

Dimming ballasts designed for the operation of one F34T12, two F34T12, two F96T12/ES, and two F96T12HO/ES lamps and that meet the specifications found at 10 CFR 430.32(m)(10)(i) and (ii) are subject to BLE standards specified in 10 CFR 430.32(m)(10)(iii).

DOE is proposing several changes to the energy conservation standards section of the CFR for ballasts (10 CFR 430.32(m)) to clarify the applicability of standards and exemptions and improve readability. These changes are described in detail in the following sections.

1. Changes to Organization

DOE is proposing modifications to the organization of 10 CFR 430.32(m) to clarify the applicability of standards and exemptions. DOE is proposing to consolidate 10 CFR 430.32(m) by deleting standards that are no longer applicable. 10 CFR 430.32(m) currently contains the standards established by NAECA 1988, the 2000 Ballast Rule, EPACT 2005, and the 2011 Ballast Rule. The standards established by each of these actions are accompanied by compliance dates and exemptions. DOE is proposing to remove the sections of 10 CFR 430.32(m) that no longer apply (i.e., existing sections 10 CFR 430.32(m)(1)-(m)(7)). DOE also proposes to reorganize the remaining sections of 10 CFR 430.32(m) to enhance readability. DOE will outline the key topics of standards, compliance dates, and exemptions.

Additionally, DOE is proposing modifications to the standards table in 10 CFR 430.32(m). In many cases, several different types of ballasts are subject to the same BLE standards. However, due to a formatting error, the table in existing section 430.32(m)(8) added additional lines and borders between these ballast types subject to the same BLE standards. For example, instant start and rapid start ballasts (not classified as residential) that are designed to operate 4-foot MBP, 2-foot U-shaped, and 8-foot slimline lamps are all subject to the same BLE standards. To clarify that certain groups of ballasts are subject to the same standards, DOE proposes to remove some lines and borders to accurately group the ballasts and standards. The chart will conform to what is shown in Table III.1.

2. Changes to Definitions and Terminology

DOE is also proposing changes to the definitions and terminology used in 10 CFR 430.32(m) pertaining to BLE standards. DOE is proposing to remove descriptions of terminology at existing (m)(8)(iv)-(vi) and instead reference redesignated Appendix Q (see section III.B) for definitions of the terms average total lamp arc power, instant start, programmed start, rapid start, residential ballast, and sign ballast. In addition, DOE is proposing to use the phrase “that are not residential ballasts” in amended sections 10 CFR 430.32(m)(1)(ii)(A) and (m)(2)(ii)(A) to refer to any ballasts that do not meet the definition of residential ballast in redesignated Appendix Q. This change would improve clarity through consistent usage of a single phrase and reducing cross-references to other paragraphs.

Finally, DOE is proposing to replace the phrase “designed, labeled, and marketed” with the phrase “designed and marketed” as defined at 10 CFR 430.2, in the description of a low frequency ballast at amended section 10 CFR 430.32(m)(3)(ii). The definition of “designed and marketed” at 10 CFR 430.2 clarifies that a ballast is recognized as designed and marketed if the intended application of the lamp is stated in a publicly available document (e.g., product literature, catalogs, packaging labels, and labels on the product itself).³

³ The definition of “designed and marketed” was established in the general service fluorescent lamp and incandescent reflector lamp energy conservation standard rulemaking. See http://www.regulations.gov/#!docketDetail;D=EERE-2011-BT-STD-0006.

Similarly, DOE is proposing to replace the phrase “for use in connection with” with the phrase “designed and marketed to operate” at amended section 10 CFR 430.32(m)(2) and amended section 10 CFR 430.32(m)(3)(i). DOE is also proposing to replace the phrase “that operate” with “that are designed to operate” at amended section 10 CFR 430.32(m)(1)(ii)(B). These revisions eliminate potential confusion or ambiguity by clarifying the original intent of this language.

B. Test Procedure

Manufacturers were previously required to use the test procedure for ballasts at 10 CFR part 430, subpart B, appendix Q to determine compliance with BEF standards. The May 2011 test procedure final rule established appendix Q1 to subpart B of 10 CFR part 430 to determine compliance with BLE standards. As stated in section III.A, compliance with BLE standards has been required since November 14, 2014. Because the BEF standards are no longer applicable, DOE is proposing to remove the test procedure for BEF at Appendix Q and redesignate the Appendix Q1 test procedure for BLE as Appendix Q. DOE is also proposing several changes to redesignated Appendix Q to clarify the test procedures for measuring BLE. These changes are described in detail in the following sections.

1. Lamp Pairing for Testing

In the May 2011 test procedure final rule, DOE specified that ballasts are to be paired with the most common wattage lamp and provided a table (Table A of existing appendix Q1 of subpart B of part 430) to indicate which lamp should be used with each ballast. 76 FR 25211 (May 4, 2011) Table A lists the ballast description along with the lamp type intended for testing. Though ballasts can frequently operate lamps of the same diameter but different wattages, DOE requires testing with only one lamp wattage per ballast. To clarify this requirement, DOE is proposing to indicate in section 2.3.1.7 of redesignated Appendix Q that each ballast should be tested with only one lamp type corresponding to the lamp diameter and base type the ballast is designed and marketed to operate. For example, a ballast designed and marketed to operate both 32 watt (W) 4-foot MBP T8 lamps and 28 W 4-foot MBP T8 lamps should only be tested with the 32 W lamp. Additionally, stakeholders requested clarification on testing ballasts that are designed and marketed as operating both T8 and T12 lamps. Therefore, DOE is also proposing to indicate in section 2.3.1.5 of redesignated Appendix Q that a ballast designed and marketed to operate both T8 and T12 lamps must be tested with T8 lamps. DOE believes T8 lamps will be the most common lamp type paired with these ballasts.

In addition, DOE proposes to revise Table A of existing Appendix Q1 to further clarify this requirement. DOE proposes to add borders to Table A in redesignated Appendix Q to emphasize that testing with only one lamp type per ballast is necessary. DOE also proposes to revise the column heading corresponding to the lamp description to read “lamp type” to provide a clear linkage to the direction that only one lamp type should be paired with each ballast for testing. Table III.2 and Table III.3 present an example from Table A, highlighting the existing and proposed versions, respectively.

Table III.2—Existing Table A Excerpt
Ballast type | Nominal lamp wattage | Lamp diameter and base | Frequency adjustment factor: Low-frequency | Frequency adjustment factor: High-frequency
Ballasts that operate straight-shaped lamps (commonly referred to as 4-foot medium bipin lamps) with medium bipin bases and a nominal overall length of 48 inches | 32 34 | T8 MBP T12 MBP | 0.94 0.93 | 1.0 1.0

Table III.3—Proposed Revisions to Table A Excerpt
Ballast type | Lamp type: Nominal lamp wattage | Lamp type: Lamp diameter and base | Frequency adjustment factor: Low-frequency | Frequency adjustment factor: High-frequency
Ballasts that operate straight-shaped lamps (commonly referred to as 4-foot medium bipin lamps) with medium bipin bases and a nominal overall length of 48 inches | 32 | T8 MBP | 0.94 | 1.0
| 34 | T12 MBP | 0.93 | 1.0

For clarity, DOE also proposes to revise the ballast type description for sign ballasts in Table A to read “Sign ballasts that operate rapid-start lamps (commonly referred to as 8-foot high output lamps) with recessed double contact bases and a nominal overall length of 96 inches.” Additionally, DOE proposes to add a definition for “sign ballast” in redesignated Appendix Q based on the existing description of sign ballast in 10 CFR 430.32(m). See section III.B.4 for more information.

2. Testing at Full Output

In section 2.5.1.2 of existing Appendix Q1, DOE specifies that the ballast should be operated at full output during the stabilization process, and measurements should be made after the stabilization condition is reached. DOE is proposing to revise this statement in redesignated Appendix Q to make clear that the ballast should remain at full output while the measurements are taken. This is consistent with DOE's intent that both dimming and fixed light output ballasts are tested at full light output.

3. Measurement Clarification

DOE specifies in section 2.3.2.1 of existing Appendix Q1 that the power analyzer must have n+1 channels where n is the number of lamps a ballast operates. DOE notes that, for certain ballasts, it is possible for n+1 to be greater than the number of channels supplied by a single power analyzer. DOE is proposing to clarify in redesignated Appendix Q that the test lab use the minimum number of power analyzers possible during testing. A power analyzer commonly used in the lighting industry has six channels, but can be linked to a second power analyzer when additional channels are needed. If a test lab needed seven channels to test a ballast that operates six lamps, for example, they should use only two analyzers.

4. Changes to Definitions

DOE is proposing changes to existing Appendix Q1 relating to definitions used in the test procedure. DOE proposes to modify the definition of “residential ballast” in the definitions section of existing Appendix Q1 to align with the existing description at 10 CFR 430.32(m)(8)(vi) and the definition of “designed and marketed” at 10 CFR 430.2 (see section III.A.2 for more information). DOE proposes to define residential ballast in redesignated Appendix Q as “a fluorescent lamp ballast that meets FCC consumer limits as set forth in 47 CFR part 18 and is designed and marketed for use only in residential applications.” DOE also proposes to remove the definition of “commercial ballast” that is in the existing Appendix Q1 and instead proposes to use the phrase “that are not residential ballasts” in redesignated Appendix Q when referring to any ballasts that do not meet the definition of residential ballast. This proposed change would align redesignated Appendix Q with the proposed terminology changes in the energy conservation standards at 430.32(m).

In addition, DOE is proposing to add several terms to the definitions section of redesignated Appendix Q pertaining to BLE standards. First, DOE proposes to add a definition for average total lamp arc power to provide specific clarification on the calculation. Average total lamp arc power is referenced in the BLE standards equation (at 10 CFR 430.32(m)(8)) shown in Table III.1. To clarify how to calculate the applicable BLE standard, DOE proposes to add the definition of average total lamp arc power to the definitions section of redesignated Appendix Q. The proposed definition for average total lamp arc power is “the average of the total lamp arc power (as defined and measured in section 2.6.1) of the ballast units tested.”

DOE also proposes to add a definition for “dimming ballast” to redesignated Appendix Q. The proposed definition for a dimming ballast is “a ballast that is designed to vary its output and that can achieve an output less than or equal to 50 percent of its maximum electrical output.” This proposed definition aligns with and clarifies the dimming ballast exemptions currently specified in 10 CFR 430.32(m). Thus, DOE also proposes to remove the description of a dimming ballast currently at 10 CFR 430.32(m)(9)(i). As proposed, 10 CFR 430.32 would instead reference the new definition for “dimming ballast” in redesignated Appendix Q.

In addition, DOE proposes to add a definition for “sign ballast” to the definitions section of redesignated Appendix Q. DOE proposes to define sign ballast based on the description currently at 10 CFR 430.32(m)(8)(v) and the definition of “designed and marketed” at 10 CFR 430.2 (see section III.A.2 for more information). DOE is proposing to define sign ballast as “a ballast that has an Underwriters Laboratories Inc. Type 2 rating and is designed and marketed for use only in outdoor signs.” Rather than listing a description of sign ballast, as does section 2.3.1.4 of existing Appendix Q1, DOE proposes that section 2.3.1.6 of redesignated Appendix Q reference the term in the definitions section of redesignated Appendix Q.

Subsequently, DOE proposes new language in redesignated Appendix Q to reference the definitions section of redesignated Appendix Q. Specifically, in section 2.4.3, DOE proposes to reference definitions in redesignated Appendix Q and therefore replace the language “For ballasts designed and labeled for residential applications” with “For residential ballasts.” In addition, DOE proposes to replace the language “For ballasts designed and labeled as cold-temperature outdoor sign ballasts” with “For sign ballasts.”

Finally, DOE proposes redesignated Appendix Q without the terms “active mode” and “standby mode” because these terms are already defined at 10 CFR 430.2. The definitions in existing Appendix Q1 are consistent with the definitions in 10 CFR 430.2 and are therefore redundant.

5. Rounding Ballast Luminous Efficiency

Currently, rounding requirements are not provided for the reported value of BLE. When developing standards in the November 2011 standards final rule, DOE rounded BLE to the thousandths place when analyzing the costs and benefits of the adopted standard. For consistency with the intent of the 2011 standards final rule, DOE proposes to specify rounding the reported value of BLE to the nearest thousandths place. This requirement would appear at 10 CFR 430.23(q)(2).

6. Language Changes and Corrections to the Text

DOE is also proposing new language at redesignated Appendix Q for some of the testing requirements. DOE is proposing to use the terminology “designed and marketed for operation” to clarify references to the intended ballast types. See section III.A.2 for more information on the definition of “designed and marketed.” Within sections 2.3.1.2, 2.3.1.4.1, 2.3.1.4.2, 2.3.1.4.3, and 2.4.3 of existing Appendix Q1, DOE proposes to change all instances of the following phrases to “designed and marketed for operation” in redesignated Appendix Q:

(1) “Designed to operate;”

(2) “That only operate;” and

(3) “Capable of operating.”

Additionally, DOE is proposing to modify the language of section 2.1 to clarify the references to industry standards. DOE believes the sentence as currently written does not clearly explain that the industry standards incorporated by reference in the CFR must be used in place of those listed in the industry standard ANSI C82.2. DOE is proposing to add the word “standards” as noted in the following sentence: “In addition when applying ANSI C82.2, the standards ANSI C78.81, ANSI C82.1, ANSI C82.11, and ANSI C82.13 (all incorporated by reference; see § 430.3) must be used instead of the versions listed as normative references in ANSI C82.2.”

DOE is also proposing a correction in redesignated Appendix Q relating to an error in existing Appendix Q1 that occurred during publication of the May 2011 test procedure final rule. In section 2.3.1, the heading numbers skip from 2.3.1 to 2.3.1.1.1 (i.e., 2.3.1.1 is omitted). DOE is proposing to correct this heading numbering error in redesignated Appendix Q.

Finally, DOE proposes to revise a grammatical issue in redesignated Appendix Q that is in existing section 1.7 of Appendix Q1, which defines “instant-start.” In section 1.7 of redesignated Appendix Q, DOE proposes to insert the word “in” so that the definition of instant-start reads “is the starting method used in instant-start systems as defined in American National Standards Institute (ANSI) C82.13 (incorporated by reference see 10 CFR 430.3).”

C. Compliance and Certification

1. Laboratory Accreditation

DOE has received feedback that the language in 10 CFR 430.25 is causing confusion. Specifically, there has been confusion over the role of the National Voluntary Laboratory Accreditation Program (NVLAP), other accrediting bodies, Underwriter's Laboratories (UL), and Council of Canada. In order to reduce this confusion, DOE proposes to revise the text to read: “testing must be conducted by test laboratories accredited by the National Voluntary Laboratory Accreditation Program (NVLAP) or by an accreditation body that has a mutual recognition agreement for which NVLAP is a signatory.” DOE believes this revision will clarify that testing may take place at laboratories accredited by NVLAP or by an organization with an equivalent function as NVLAP.

Additionally, DOE proposes to remove the statement at 10 CFR 430.25 noting that testing for fluorescent lamp ballasts performed in accordance with the existing Appendix Q is not required to be conducted by test laboratories accredited by NVLAP or an accrediting organization recognized by NVLAP. Because DOE is proposing to remove the BEF test procedure at existing Appendix Q and replace it with the BLE test procedure from existing Appendix Q1, this statement is also no longer relevant.

Finally, DOE proposes to remove statements indicating the relevant Appendix for testing specific lighting products. DOE proposes to remove these unnecessary statements so that 10 CFR 430.25 is focused solely on laboratory accreditation.

2. Evaluating Compliance With Standards

Compliance with BLE standards should be evaluated according to 10 CFR 429.26. As prescribed at 10 CFR 429.26(a)(2), for each basic model of fluorescent lamp ballast, a minimum of four units must be randomly selected and tested using redesignated Appendix Q. The manufacturer must then evaluate compliance with the standard by comparing the mean from testing and the lower 99 percent confidence limit (LCL) of the true mean divided by 0.99. The mean of the sample is computed using the equation at section 429.26(a)(2)(ii)(A), and the equation to evaluate the LCL is found at section 429.26(a)(2)(ii)(B). The following is an example calculation for evaluating compliance with BLE standards.

Table III.4 presents example test data used to evaluate compliance with standards for a fluorescent lamp ballast designed and marketed for operation of a maximum of two F96T8 lamps.

The ballast is a universal voltage, high frequency ballast designed to operate 8-foot slimline lamps and is intended for use in non-residential applications. Four units of the basic model are tested using the test procedure at redesignated Appendix Q. Each unit is tested while operating two 59 W F96T8 lamps and the resulting measurements are shown in Table III.4. The required calculations are performed for each ballast and include computing the BLE and power factor. To calculate the BLE of unit 1, Equation 1 is utilized.

Where:

Total Test Ballast Lamp Arc Power = sum of the lamp arc powers for all lamps operated by the ballast (as determined by section 2.5.1.5 of amended Appendix Q),

Ballast Input Power = measured input power to the ballast (as determined by section 2.5.1.6 of amended Appendix Q), and

β = frequency adjustment factor (Table A of amended Appendix Q).

Equation 2 shows the calculaton for BLE using the data from Table III.4 for unit 1.

The power factor is also calculated for unit 1 using Equation 3.

Equation 4 shows the calculation for power factor using the data from Table III.4 for unit 1.

The same process is repeated for each of the three remaining ballast units. The resulting BLE and power factor values are shown in Table III.4.

To determine the minimum BLE that a basic model must meet or exceed to be compliant with standards, manufacturers must average the total lamp arc power of the units and input the average into the appropriate energy conservation standard efficiency level. The reported BLE for each basic model must meet or exceed the output of Equation 5. For instant start ballasts that are designed to operate 8-foot slimline lamps, A = 0.993; B = 0.27; and C = 0.25.

Where:

power = average total lamp arc power.

The total lamp arc power is calculated using the data from Table III.4 for each of the tested ballasts as shown in Equation 6. The average total lamp arc power of the sample is then calculated as shown in Equation 7. Equation 8 uses the resulting average total lamp arc power to calculate the BLE standard.

Next, as stated previously, manufacturers must follow the provisions laid out in section 429.26 to certify for compliance. The mean BLE of the sample is calculated using Equation 9.

Where:

x̄ = sample mean,

n = number of samples, and

xi = ith sample.

The mean BLE calculation using the data from Table III.4 is shown in Equation 10.

The lower 99 percent confidence limit of the true mean is calculated using Equation 11.

Where:

x̄ = sample mean,

s = sample standard deviation,

n = number of samples, and

t0.99 = t statistic for a 99% one-tailed confidence interval with n−1 degrees of freedom.

Equation 12 and Equation 13 show calculations for LCL and LCL divided by 0.99, respectively, using the test data from Table III.4.

Manufacturers may report that products perform within a range of values constrained by the standard and the statistical value based on test data. The standard serves as the minimum allowable BLE, and the lower of the mean BLE or LCL of the true mean divided by 0.99 serves as the maximum allowable BLE value reported for compliance. No additional tolerances are provided when determining BLE. Therefore, in this example, the minimum allowable BLE reported for compliance is the standard of 0.919 and the maximum BLE allowable to be reported is 0.928.

3. Compliance Date for This Proposed Rule

Compliance with existing standards has been required since the dates discussed in section III.A.1. The proposed amendments in this rulemaking would be effective 30 days following publication of a final rule. Consistent with 42 U.S.C. 6293(c), any representations of energy efficiency or energy use would be required to be based on any final amended test procedure no later than 180 days after the publication of the final rule in the Federal Register.

IV. Procedural Issues and Regulatory Review

A. Review Under Executive Order 12866

The Office of Management and Budget (OMB) has determined that test procedure rulemakings do not constitute “significant regulatory actions” under section 3(f) of Executive Order 12866, Regulatory Planning and Review, 58 FR 51735 (Oct. 4, 1993). Accordingly, this action was not subject to review under the Executive Order by the Office of Information and Regulatory Affairs (OIRA) in the Office of Management and Budget.

B. Review Under the Regulatory Flexibility Act

The Regulatory Flexibility Act (5 U.S.C. 601 et seq.) requires preparation of an initial regulatory flexibility analysis (IFRA) for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's Web site: http://energy.gov/gc/office-general-counsel.

This rulemaking clarifies existing requirements for testing and compliance with standards and does not change the burden associated with fluorescent lamp ballast regulations on any entity large or small. Therefore, DOE concludes and certifies that this rulemaking would not have a significant economic impact on a substantial number of small entities.

Accordingly, DOE has not prepared a regulatory flexibility analysis for this rulemaking. DOE's certification and supporting statement of factual basis will be provided to the Chief Counsel for Advocacy of the SBA ⁴ for review under 5 U.S.C. 605(b). DOE certifies that this rule would have no significant impact on a substantial number of small entities. DOE seeks comment regarding whether the proposed clarifications in this proposed rulemaking would have a significant economic impact on any small entities.

⁴ Small Business Administration.

C. Review Under the Paperwork Reduction Act of 1995

Manufacturers of fluorescent lamp ballasts must certify to DOE that their products comply with any applicable energy conservation standards. In certifying compliance, manufacturers must test their products according to the DOE test procedures for fluorescent lamp ballasts, including any amendments adopted for those test procedures. DOE has established regulations for the certification and recordkeeping requirements for all covered consumer products and commercial equipment, including fluorescent lamp ballasts. (76 FR 12422 (March 7, 2011). The collection-of-information requirement for the certification and recordkeeping is subject to review and approval by OMB under the Paperwork Reduction Act (PRA). This requirement has been approved by OMB under OMB control number 1910-1400. Public reporting burden for the certification is estimated to average 30 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

In this proposed rule, DOE proposes revisions to provide clarification for energy conservation standards and test procedures for fluorescent lamp ballasts. DOE has determined that this rule falls into a class of actions that are categorically excluded from review under the National Environmental Policy Act of 1969 (42 U.S.C. 4321 et seq.) and DOE's implementing regulations at 10 CFR part 1021. Specifically, this proposed rule would clarify the existing energy conservation standards and test procedures without affecting the amount, quality or distribution of energy usage, and, therefore, would not result in any environmental impacts. Thus, this rulemaking is covered by Categorical Exclusion A5 under 10 CFR part 1021, subpart D, which applies to any rulemaking that interprets or amends an existing rule without changing the environmental effect of that rule. Accordingly, neither an environmental assessment nor an environmental impact statement is required.

E. Review Under Executive Order 13132

Executive Order 13132, “Federalism,” 64 FR 43255 (August 4, 1999) imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE has examined this proposed rule and has determined that it would not have a substantial direct effect on the States, on the relationship between the national government and the States, or on the distribution of power and responsibilities among the various levels of government. EPCA governs and prescribes Federal preemption of State regulations as to energy conservation for the products that are the subject of today's proposed rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) Eliminate drafting errors and ambiguity; (2) write regulations to minimize litigation; (3) provide a clear legal standard for affected conduct rather than a general standard; and (4) promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, the proposed rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at http://energy.gov/gc/office-general-counsel. DOE examined today's proposed rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights” 53 FR 8859 (March 18, 1988), that this regulation would not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). DOE has reviewed today's proposed rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use.

Today's regulatory action to clarify the energy conservation standards and test procedures for measuring the energy efficiency of fluorescent lamp ballasts is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977. (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

The proposed rule does not revise the existing incorporation of industry standards regarding fluorescent lamp ballasts. Therefore, the Department concludes that the requirements of section 32(b) of the FEAA, (i.e., that the standards were developed in a manner that fully provides for public participation, comment, and review) do not apply to this rulemaking.

V. Public Participation

A. Submission of Comments

DOE will accept comments, data, and information regarding this proposed rule no later than the date provided in the DATES section at the beginning of this proposed rule. Interested parties may submit comments using any of the methods described in the ADDRESSES section at the beginning of this notice.

Submitting comments via regulations.gov. The regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to regulations.gov information for which disclosure is restricted by statute, such as trade secrets and commercial or financial information (hereinafter referred to as Confidential Business Information (CBI)). Comments submitted through regulations.gov cannot be claimed as CBI. Comments received through the Web site will waive any CBI claims for the information submitted. For information on submitting CBI, see the Confidential Business Information section.

DOE processes submissions made through regulations.gov before posting. Normally, comments will be posted within a few days of being submitted. However, if large volumes of comments are being processed simultaneously, your comment may not be viewable for up to several weeks. Please keep the comment tracking number that regulations.gov provides after you have successfully uploaded your comment.

Submitting comments via email, hand delivery, or mail. Comments and documents submitted via email, hand delivery, or mail also will be posted to regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

B. Issues on Which DOE Seeks Comment

Although DOE welcomes comments on any aspect of this proposal, DOE is particularly interested in receiving comments and views of interested parties concerning the proposed clarification regarding laboratory accreditation.

VI. Approval of the Office of the Secretary

The Secretary of Energy has approved publication of this proposed rule.

List of Subjects in 10 CFR Part 430

Administrative practice and procedure, Confidential business information, Energy conservation, Household appliances, Imports, Incorporation by reference, Intergovernmental relations, Small businesses.

Issued in Washington, DC, on December 29, 2014.
Kathleen B. Hogan,
Deputy Assistant Secretary for Energy Efficiency, Energy Efficiency and Renewable Energy.

For the reasons stated in the preamble, DOE is proposing to amend part 430 of Chapter II of Title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.23 is amended by revising paragraph (q)(2) to read as follows:

§ 430.23 Test procedures for the measurement of energy and water consumption.

* * * * *

(q) * * *

(2) Calculate ballast luminous efficiency (BLE) using section 2.6.1 of Appendix Q1 to this subpart. Round BLE to the nearest thousandths place.

* * * * *

3. Section 430.25 is revised to read as follows:

§ 430.25 Laboratory Accreditation Program.

The testing for general service fluorescent lamps, general service incandescent lamps (with the exception of lifetime testing), incandescent reflector lamps, medium base compact fluorescent lamps, and fluorescent lamp ballasts (with the exception of the testing conducted pursuant to Appendix Q of this subpart as it appeared at 10 CFR part 430, subpart B revised as of January 1, 2014) must be conducted by test laboratories accredited by the National Voluntary Laboratory Accreditation Program (NVLAP) or by an accreditation body that has a mutual recognition agreement for which NVLAP is a signatory.

Appendix Q to Subpart B of Part 430 [Removed]

4. Appendix Q to subpart B of part 430 is removed.

5. Appendix Q1 to subpart B of part 430 is redesignated as appendix Q to subpart B of part 430 and revised to read as follows:

Appendix Q to Subpart B of Part 430—Uniform Test Method for Measuring the Energy Consumption of Fluorescent Lamp Ballasts

1. Definitions

1.1. AC control signal means an alternating current (AC) signal that is supplied to the ballast using additional wiring for the purpose of controlling the ballast and putting the ballast in standby mode.

1.2. Average total lamp arc power means the average of the total lamp arc power (as defined and measured in section 2.6.1) of the ballast units tested.

1.3. Cathode heating refers to power delivered to the lamp by the ballast for the purpose of raising the temperature of the lamp electrode or filament.

1.4. DC control signal means a direct current (DC) signal that is supplied to the ballast using additional wiring for the purpose of controlling the ballast and putting the ballast in standby mode.

1.5. Dimming ballast means a ballast that is designed to vary its output and that can achieve an output less than or equal to 50 percent of its maximum electrical output.

1.6. High-frequency ballast is as defined in ANSI C82.13 (incorporated by reference; see § 430.3).

1.7. Instant-start is the starting method used in instant-start systems as defined in ANSI C82.13 (incorporated by reference; see § 430.3).

1.8. Low-frequency ballast is a fluorescent lamp ballast that operates at a supply frequency of 50 to 60 Hz and operates the lamp at the same frequency as the supply.

1.9. PLC control signal means a power line carrier (PLC) signal that is supplied to the ballast using the input ballast wiring for the purpose of controlling the ballast and putting the ballast in standby mode.

1.10. Programmed-start is the starting method used in programmed-start systems as defined in ANSI C82.13 (incorporated by reference; see § 430.3).

1.11. Rapid-start is the starting method used in rapid-start type systems as defined in ANSI C82.13 (incorporated by reference; see § 430.3).

1.12. Reference lamp is a fluorescent lamp that meets certain operating conditions as defined by ANSI C82.13 (incorporated by reference; see § 430.3).

1.13. Residential ballast means a fluorescent lamp ballast that meets FCC consumer limits as set forth in 47 CFR part 18 and is designed and marketed for use only in residential applications.

1.14. RMS is the root mean square of a varying quantity.

1.15. Sign ballast means a ballast that has an Underwriters Laboratories Inc. Type 2 rating and is designed and marketed for use only in outdoor signs.

1.16. Wireless control signal means a wireless signal that is radiated to and received by the ballast for the purpose of controlling the ballast and putting the ballast in standby mode.

2. Active Mode Procedure

2.1. Where ANSI C82.2 (incorporated by reference; see § 430.3) references ANSI C82.1-1997, the operator must use ANSI C82.1 (incorporated by reference; see § 430.3) for testing low-frequency ballasts and must use ANSI C82.11 (incorporated by reference; see § 430.3) for testing high-frequency ballasts. In addition when applying ANSI C82.2, the standards ANSI C78.81 (incorporated by reference; see § 430.3), ANSI C82.1, ANSI C82.11, and ANSI C82.13 must be used instead of the versions listed as normative references in ANSI C82.2.

2.2. Instruments

2.2.1. All instruments must be as specified by ANSI C82.2 (incorporated by reference; see § 430.3).

2.2.2. Power Analyzer. In addition to the specifications in ANSI C82.2 (incorporated by reference; see § 430.3), the power analyzer must have a maximum 100 pF capacitance to ground and frequency response between 40 Hz and 1 MHz.

2.2.3. Current Probe. In addition to the specifications in ANSI C82.2 (incorporated by reference; see § 430.3), the current probe must be galvanically isolated and have frequency response between 40 Hz and 20 MHz.

2.3. Test Setup

2.3.1. The ballast must be connected to a main power source and to the fluorescent lamp load according to the manufacturer's wiring instructions and ANSI C82.1 (incorporated by reference; see § 430.3) and ANSI C78.81 (incorporated by reference; see § 430.3).

2.3.1.1. Wire lengths between the ballast and fluorescent lamp must be the length provided by the ballast manufacturer. Wires must be kept loose and not shortened or bundled.

2.3.1.2. If the wire lengths supplied with the ballast are of insufficient length to reach both ends of lamp, additional wire may be added. Add the minimum additional wire length necessary, and the additional wire must be the same wire gauge as the wire supplied with the ballast. If no wiring is provided with the ballast, 18 gauge or thicker wire must be used. The wires must be separated from each other and ground to prevent parasitic capacitance for all wires used in the apparatus, including those wires from the ballast to the lamps and from the lamps to the measuring devices.

2.3.1.3. The fluorescent lamp must meet the specifications of a reference lamp as defined by ANSI C82.13 (incorporated by reference; see § 430.3) and be seasoned at least 12 hours.

2.3.1.4. The ballast must be connected to the number of lamps equal to the maximum number of lamps the ballast is designed and marketed to operate.

2.3.1.5. With the exception of sign ballasts (described in section 2.3.1.6 and its subsections), ballasts designed and marketed to operate both T8 and T12 lamps must be tested with T8 lamps.

2.3.1.6. For sign ballasts (as defined in section 1.15):

2.3.1.6.1. A T8 lamp in accordance with Table A of this section must be used for sign ballasts that are designed and marketed to only operate T8 lamps.

2.3.1.6.2. A T12 lamp in accordance with Table A of this section must be used for sign ballasts that are designed and marketed to only operate T12 lamps.

2.3.1.6.3. A T12 lamp in accordance with Table A of this section must be used for sign ballasts that are designed and marketed to operate both T8 and T12 lamps.

2.3.1.7. Each ballast must be tested with only one lamp type corresponding to the lamp diameter the ballast is designed and marketed to operate in accordance with Table A of this section.

Table A—Lamp-and-Ballast Pairings and Frequency Adjustment Factors
Ballast type | Lamp type: Lamp diameter and base | Lamp type: Nominal lamp wattage | Frequency adjustment factor (β): Low- frequency | Frequency adjustment factor (β): High- frequency
Ballasts that operate straight-shaped lamps (commonly referred to as 4-foot medium bipin lamps) with medium bipin bases and a nominal overall length of 48 inches | T8 MBP | 32 | 0.94 | 1.0
| T12 MBP | 34 | 0.93 | 1.0
Ballasts that operate U-shaped lamps (commonly referred to as 2-foot U-shaped lamps) with medium bipin bases and a nominal overall length between 22 and 25 inches | T8 MBP | 32 | 0.94 | 1.0
| T12 MBP | 34 | 0.93 | 1.0
Ballasts that operate rapid-start lamps (commonly referred to as 8-foot-high output lamps) with recessed double contact bases and a nominal overall length of 96 inches | T8 HO RDC | 86 | 0.92 | 1.0
| T12 HO RDC | 95 | 0.94 | 1.0
Ballasts that operate instant-start lamps (commonly referred to as 8-foot slimline lamps) with single pin bases and a nominal overall length of 96 inches | T8 slimline SP | 59 | 0.95 | 1.0
| T12 slimline SP | 60 | 0.94 | 1.0
Ballasts that operate straight-shaped lamps (commonly referred to as 4-foot miniature bipin standard output lamps) with miniature bipin bases and a nominal length between 45 and 48 inches | T5 SO Mini-BP | 28 | 0.95 | 1.0
Ballasts that operate straight-shaped lamps (commonly referred to as 4-foot miniature bipin high output lamps) with miniature bipin bases and a nominal length between 45 and 48 inches | T5 HO Mini-BP | 54 | 0.95 | 1.0
Sign ballasts that operate rapid-start lamps (commonly referred to as 8-foot high output lamps) with recessed double contact bases and a nominal overall length of 96 inches | T8 HO RDC | 86 | 0.92 | 1.0
| T12 HO RDC | 110 | 0.94 | 1.0
MBP, Mini-BP, RDC, and SP represent medium bipin, miniature bipin, recessed double contact, and single pin, respectively.
A ballast must be tested with only one lamp type based on the ballast type description and lamp diameter it is designed and marketed to operate.

2.3.2. Power Analyzer

2.3.2.1. The power analyzer must have n+1 channels where n is the number of lamps a ballast operates. Use the minimum number of power analyzers possible during testing.

2.3.2.2. Lamp Arc Voltage. Leads from the power analyzer should attach to each fluorescent lamp according to Figure 1 of this section for rapid- and programmed-start ballasts, Figure 2 of this section for instant-start ballasts operating single pin (SP) lamps, and Figure 3 of this section for instant-start ballasts operating medium bipin (MBP), miniature bipin (mini-BP), or recessed double contact (RDC) lamps. The programmed- and rapid-start ballast test setup includes two 1000 ohm resistors placed in parallel with the lamp pins to create a midpoint from which to measure lamp arc voltage.

2.3.2.3. Lamp Arc Current. A current probe must be positioned on each fluorescent lamp according to Figure 1 for rapid- and programmed-start ballasts, Figure 2 of this section for instant-start ballasts operating SP lamps, and Figure 3 of this section for instant-start ballasts operating MBP, mini-BP, and RDC lamps.

2.3.2.3.1. For the lamp arc current measurement, the full transducer ratio must be set in the power analyzer to match the current probe to the power analyzer.

Where: Iin is the current through the current transducer, Vout is the voltage out of the transducer, Rin is the power analyzer impedance, and Rs is the current probe output impedance.

BILLING CODE 6450-01-P

BILLING CODE 6450-01-C

2.4. Test Conditions

2.4.1. The test conditions for testing fluorescent lamp ballasts must be done in accordance with ANSI C82.2 (incorporated by reference; see § 430.3). DOE further specifies that the following revisions of the normative references indicated in ANSI C82.2 should be used in place of the references directly specified in ANSI C82.2: ANSI C78.81 (incorporated by reference; see § 430.3), ANSI C82.1 (incorporated by reference; see § 430.3), ANSI C82.3 (incorporated by reference; see § 430.3), ANSI C82.11 (incorporated by reference; see § 430.3), and ANSI C82.13 (incorporated by reference; see § 430.3). All other normative references must be as specified in ANSI C82.2.

2.4.2. Room Temperature and Air Circulation. The test facility must be held at 25 ±2 °C, with minimal air movement as defined in ANSI C78.375 (incorporated by reference; see § 430.3).

2.4.3. Input Voltage. Disregard the directions in ANSI C82.2 (incorporated by reference; see § 430.3) section 4.1, and use the following directions for input voltage instead. For ballasts that are not residential ballasts designed and marketed for operation at multiple voltages, test the ballast at 277V ±0.1%. For residential ballasts designed and marketed for operation at multiple voltages, test the ballast at 120V ±0.1%. For sign ballasts designed and marketed for operation at multiple voltages, test the ballast at 120V ±0.1%. Ballasts designed and marketed for operation at only one input voltage must be tested at that specified voltage.

2.5. Test Method

2.5.1. Ballast Luminous Efficiency.

2.5.1.1. The ballast must be connected to the appropriate fluorescent lamps and to measurement instrumentation as indicated by the Test Setup in section 2.3.

2.5.1.2. The ballast must be operated at full output for at least 15 minutes but no longer than 1 hour until stable operating conditions are reached. Once this condition is reached and with the ballast continuing to operate at full output, measure each of the parameters described in sections 2.5.1.3 through 2.5.1.9 concurrently.

2.5.1.2.1. Stable operating conditions are determined by measuring lamp arc voltage, current, and power once per second in accordance with the setup described in section 2.3. Once the difference between the maximum and minimum values for lamp arc voltage, current, and power do not exceed one percent over a four minute moving window, the system is considered stable.

2.5.1.3. Lamp Arc Voltage. Measure lamp arc voltage (volts) using the setup described in section 2.3.2.2.

2.5.1.4. Lamp Arc Current. Measure lamp arc current (amps) using the setup described in section 2.3.2.3.

2.5.1.5. Lamp Arc Power. The power analyzer must calculate output power by using the measurements described in sections 2.5.1.3 and 2.5.1.4.

2.5.1.6. Input Power. Measure the input power (watts) to the ballast in accordance with ANSI C82.2 (incorporated by reference; see § 430.3), section 7.

2.5.1.7. Input Voltage. Measure the input voltage (volts) (RMS) to the ballast in accordance with ANSI C82.2 (incorporated by reference; see § 430.3), section 3.2.1 and section 4.

2.5.1.8. Input Current. Measure the input current (amps) (RMS) to the ballast in accordance with ANSI C82.2 (incorporated by reference; see § 430.3), section 3.2.1 and section 4.

2.5.1.9. Lamp Operating Frequency. Measure the frequency of the waveform delivered from the ballast to any lamp in accordance with the setup in section 2.3.

2.6. Calculations

2.6.1. Calculate ballast luminous efficiency (BLE).

Where: Total Test Ballast Lamp Arc Power is the sum of the lamp arc powers for all lamps operated by the ballast as determined by section 2.5.1.5, Ballast Input Power is as determined by section 2.5.1.6, and β is equal to the frequency adjustment factor in Table A.

2.6.2. Calculate Power Factor (PF).

Where: Ballast Input Power is determined in accordance with section 2.5.1.6, Input Voltage is determined in accordance with section 2.5.1.7, and Input Current is determined in accordance with section 2.5.1.8.

3. Standby Mode Procedure

3.1. The measurement of standby mode power need not be performed to determine compliance with energy conservation standards for fluorescent lamp ballasts at this time. On or after [Date 180 Days after Publication of Final Rule in the Federal Register], if a manufacturer makes any representations with respect to the standby mode power use of fluorescent lamp ballasts, then testing must also include the provisions of this test procedure related to standby mode energy consumption.

3.2. Test Conditions

3.2.1. The test conditions for testing fluorescent lamp ballasts must be established in accordance with ANSI C82.2 (incorporated by reference; see § 430.3). The test conditions for measuring standby power are described in sections 5, 7, and 8 of ANSI C82.2. Fluorescent lamp ballasts that are designed and marketed for connection to control devices must be tested with all commercially available compatible control devices connected in all possible configurations. For each configuration, a separate measurement of standby power must be made in accordance with section 3.3 of the test procedure.

3.3. Test Method and Measurements

3.3.1. The test for measuring standby mode energy consumption of fluorescent lamp ballasts must be done in accordance with ANSI C82.2 (incorporated by reference; see § 430.3).

3.3.2. Send a signal to the ballast instructing it to have zero light output using the appropriate ballast communication protocol or system for the ballast being tested.

3.3.3. Input Power. Measure the input power (watts) to the ballast in accordance with ANSI C82.2, section 13, (incorporated by reference; see § 430.3).

3.3.4. Control Signal Power. The power from the control signal path must be measured using all applicable methods described below.

3.3.4.1. AC Control Signal. Measure the AC control signal power (watts), using a wattmeter (W), connected to the ballast in accordance with the circuit shown in Figure 4 of this section.

3.3.4.2. DC Control Signal. Measure the DC control signal voltage, using a voltmeter (V), and current, using an ammeter (A), connected to the ballast in accordance with the circuit shown in Figure 5 of this section. The DC control signal power is calculated by multiplying the DC control signal voltage and the DC control signal current.

3.3.4.3. Power Line Carrier (PLC) Control Signal. Measure the PLC control signal power (watts) using a wattmeter (W) connected to the ballast in accordance with the circuit shown in Figure 6 of this section. The wattmeter must have a frequency response that is at least 10 times higher than the PLC being measured in order to measure the PLC signal correctly. The wattmeter must also be high-pass filtered to filter out power at 60 Hertz.

3.3.4.4. Wireless Control Signal. The power supplied to a ballast using a wireless signal is not easily measured, but is estimated to be well below 1.0 watt. Therefore, the wireless control signal power is not measured as part of this test procedure.

5. Section 430.32 is amended by revising paragraph (m) to read as follows:

§ 430.32 Energy and water conservation standards and their compliance dates.

* * * * *

(m) Fluorescent lamp ballasts. (1) Standards for fluorescent lamp ballasts (other than dimming ballasts as defined in appendix Q of subpart B of this part)

Except as provided in paragraphs (m)(2) and (m)(3) of this section, each fluorescent lamp ballast manufactured on or after November 14, 2014

(i) Designed and marketed—

(A) To operate at nominal input voltages at or between 120 and 277 volts;

(B) To operate with an input current frequency of 60 Hertz; and

(C) For use in connection with fluorescent lamps (as defined in § 430.2)

(ii) Must have—

(A) A power factor of:

(1) 0.9 or greater for ballasts that are not residential ballasts; or

(2) 0.5 or greater for residential ballasts.

(B) A ballast luminous efficiency not less than the following:

BLE = A/(1 + B × average total lamp arc power ‸ −C) Where A, B, and C are as follows:*: Description | BLE = A/(1 + B × average total lamp arc power ‸ −C) Where A, B, and C are as follows:*: A | BLE = A/(1 + B × average total lamp arc power ‸ −C) Where A, B, and C are as follows:*: B | BLE = A/(1 + B × average total lamp arc power ‸ −C) Where A, B, and C are as follows:*: C
Instant start and rapid start ballasts (not classified as residential ballasts) that are designed and marketed to operate | 0.993 | 0.27 | 0.25
4-foot medium bipin lamps;
2-foot U-shaped lamps; or
8-foot slimline lamps.
Programmed start ballasts (not classified as residential ballasts) that are designed and marketed to operate | 0.993 | 0.51 | 0.37
4-foot medium bipin lamps;
2-foot U-shaped lamps;
4-foot miniature bipin standard output lamps; or
4-foot miniature bipin high output lamps.
Instant start and rapid start ballasts (not classified as sign ballasts) that are designed and marketed to operate 8-foot high output lamps | 0.993 | 0.38 | 0.25
Programmed start ballasts (not classified as sign ballasts) that are designed and marketed to operate 8-foot high output lamps | 0.973 | 0.70 | 0.37
Sign ballasts that are designed and marketed to operate 8-foot high output lamps | 0.993 | 0.47 | 0.25
Instant start and rapid start residential ballasts that are designed and marketed to operate | 0.993 | 0.41 | 0.25
4-foot medium bipin lamps;
2-foot U-shaped lamps; or
8-foot slimline lamps.
Programmed start residential ballasts that are designed and marketed to operate | 0.973 | 0.71 | 0.37
4-foot medium bipin lamps or
2-foot U-shaped lamps.
* Average total lamp arc power, instant start, programmed start, rapid start, residential ballast, and sign ballast are as defined in appendix Q of subpart B of this part.

(2) Standards for certain dimming ballasts (as defined in appendix Q of subpart B of this part).

Except as provided in paragraph (m)(3) of this section, each dimming ballast manufactured on or after November 14, 2014; designed and marketed to operate one F34T12, two F34T12, two F96T12/ES, or two F96T12HO/ES lamps; and

(i) Designed and marketed—

(A) To operate at nominal input voltages at or between 120 and 277 volts;

(B) To operate with an input current frequency of 60 Hertz; and

(C) For use in connection with fluorescent lamps (as defined in § 430.2).

(ii) Must have—

(A) A power factor of:

(1) 0.9 or greater for ballasts that are not residential ballasts; or

(2) 0.5 or greater for residential ballasts.

(B) A ballast luminous efficiency not less than the following:

Designed and marketed for operation of a maximum of | Ballast input voltage | Total nominal lamp watts | Ballast luminous efficiency: Low frequency ballasts | Ballast luminous efficiency: High frequency ballasts
One F34T12 lamp | 120/277 | 34 | 0.777 | 0.778
Two F34T12 lamps | 120/277 | 68 | 0.804 | 0.805
Two F96T12/ES lamps | 120/277 | 120 | 0.876 | 0.884
Two F96T12HO/ES lamps | 120/277 | 190 | 0.711 | 0.713

(3) Exemptions

The power factor and ballast luminous efficiency standards described in paragraph (m)(1)(ii) and (m)(2)(ii) of this section do not apply to:

(i) A dimming ballast (as defined in appendix Q of subpart B of this part) designed and marketed to operate exclusively lamp types other than one F34T12, two F34T12, two F96T12/ES, or two F96T12HO/ES lamps;

(ii) A low frequency ballast (as defined in appendix Q of subpart B of this part) that is designed and marketed to operate T8 diameter lamps; is designed and marketed for use in electromagnetic-interference-sensitive-environments only; and is shipped by the manufacturer in packages containing 10 or fewer ballasts; or

(iii) A programmed start ballast that operates 4-foot medium bipin T8 lamps and delivers on average less than 140 milliamperes to each lamp.

* * * * *

[FR Doc. 2014-30827 Filed 1-5-15; 8:45 am]

BILLING CODE 6450-01-P